SURFACE TRANSPORTATION BOARD

[Docket No. FD 36088]

SMS Rail Lines of New York, LLC—Acquisition and Operation Exemption—Rail Line of WCC, LLC, in Hudson Falls, NY

SMS Rail Lines of New York, LLC (SMS), a Class III rail carrier, has filed a verified notice of exemption under 49 CFR 1150.41 to acquire by lease from WCC, LLC, and operate approximately 3.5 miles of rail line in Hudson Falls, Washington County, NY (the Line). According to SMS, there are no milepost designations on the Line.

SMS certifies that its projected annual revenues as a result of this transaction will not result in the creation of a Class II or Class I rail carrier and will not exceed $5 million.

SMS further certifies that the transaction does not include a provision or agreement that may limit future interchange commitments.

The transaction may be consummated on February 4, 2017, the effective date of the exemption (30 days after the exemption was filed).

If the notice contains false or misleading information, the exemption is void ab initio. Petitions to revoke the exemption under 49 U.S.C. 10502(d) may be filed at any time. The filing of a petition to revoke will not automatically stay the transaction. Petitions for stay must be filed no later than January 27, 2017 (at least 7 days before the exemption becomes effective).

An original and 10 copies of all pleadings, referring to Docket No. FD 36088, must be filed with the Surface Transportation Board, 395 E Street SW., Washington, DC 20423-0001. In addition, one copy of each pleading must be served on Robert A. Klein, 629 B Swedesford Rd., Malvern, PA 19355.

According to SMS, this action is categorically excluded from environmental review under 49 CFR 1105.6(c).

Board decisions and notices are available on our Web site at WWW.STB.GOV.

Decided: January 12, 2017.
By the Board, Rachel D. Campbell, Director, Office of Proceedings.
Rena Laws-Byrum,
Clearance Clerk.

[FR Doc. 2017-01195 Filed 1-18-17; 8:45 am]

BILLING CODE 4915-01-P